DEPARTMENT OF DEFENSE

Department of the Army

Army Educational Advisory Committee

AGENCY: Department of the Army, DoD.

ACTION: Notice of open meeting.

SUMMARY: In accordance with Section 10(a)(2) of the Federal Advisory Committee Act (5 U.S.C. App. I), announcement is made of the following committee meeting:

Name of Committee: U.S. Army War College Subcommittee of the Army Education Advisory Committee.

Dates of Meeting: April 29, 2004 and April 30, 2004.

Place of Meeting: Command Conference Room, Root Hall, U.S. Army War College, 122 Forbes Avenue, Carlisle Barracks, Pennsylvania.

Time of Meeting: 8:30 a.m.-5 p.m.

Proposed Agenda: Receive information briefings; conduct discussions with the Commandant and staff and faculty; table and examine online College issues; assess resident and distance education programs, self-study techniques, assemble a working group for the concentrated review of institutional policies and a working group to address committee membership and charter issues; propose strategies and recommendations that will continue the momentum of Federal accreditation success and guarantee compliance with regional accreditation standards.

FOR FURTHER INFORMATION CONTACT: To request advance approval or obtain further information, contact Colonel Kevin T. Connelly, Director of Joint Education, Department of Academic Affairs, U.S. Army War College, 122 Forbes Avenue, Attn: DAA, Carlisle, PA 17013 or telephone (717) 245-3907 or Mary Jo Weishaupt at (717) 245-3044.

SUPPLEMENTARY INFORMATION: This meeting is open to the public. Any interested person may attend, appear before, make a presentation, or file statements with the Committee after receiving advance approval for participation. To request advance approval for participation or obtain further information, please contact Colonel Kevin T. Connelly prior to April 7, 2004 at the above address or phone number.

Kevin T. Connelly,
Colonel, U.S. Army, Designated Federal Official.

[FR Doc. 04-7192 Filed 3-30-04; 8:45 am]

BILLING CODE 3710-08-M